DEPARTMENT OF THE TREASURY

Internal Revenue Service

Members of Senior Executive Service Performance Review Boards

AGENCY: Internal Revenue Service (IRS), Treasury.

ACTION: Notice.

SUMMARY: The purpose of this notice is to publish the names of those IRS employees who will serve as members on IRS' Fiscal Year 2007 Senior Executive Service (SES) Performance Review Boards.

DATES: This notice is effective October 1, 2007.

FOR FURTHER INFORMATION CONTACT: Darwin McCallian, 575 North Pennsylvania Street, Mail Stop AW210, Indianapolis, Indiana, 46204, (317) 685-7694.

SUPPLEMENTARY INFORMATION: Pursuant to 5 U.S.C. 4314(c)(4), this notice announces the appointment of members to the Internal Revenue Service's SES Performance Review Boards. The names and titles of the executives serving on the boards follow:

Linda E. Stiff, Deputy Commissioner for Operations Support

Brady Bennett, Deputy Commissioner, Small Business/Self Employed

Robert B. Buggs, IRS Human Capital Officer

Richard E. Byrd, Deputy Commissioner, Wage and Investment

Susan W. Carroll, Director, Accounts Management (W&I)

Patricia Chaback, Industry Director, Communications, Technical and Media (LMSB)

Michael V. Culpepper, Director Hunan Resources (SB/SE)

Alison L. Doone, Deputy Chief Financial Officer

Vicki S. Duane, Director, Philadelphia Field Operations (CI)

James A. Dumais, Project Director (CIO)

James P. Falcone, Chief, Agency-wide Shared Services

Daniel Galik, Associate CIO, Cyber Security

Gina Garza, Associate CIO, Applications Development

Arthur L. Gonzalez, Deputy Chief Information Officer

Joseph Grant, Director of Employee Plans (TEGE)

James M. Grimes, Director, Compliance (W&I)

Dirk A. Heil, Director, Strategy and Finance (SB/SE)

Sarah Hall Ingram, Chief Appeals

Kathy P. Jantzen, Associate CIO, Enterprise Operations

Michael D. Julianelle, Director of Government Entities (TEGE)

Frank Keith, Chief, Communications and Liaison

Janice Lambert, Chief Financial Officer

Lois G. Lerner, Director Exempt Organizations (TEGE)

Clarence A. Martin, Director Operations, Policy and Support (CI)

Eileen C. Mayer, Chief Criminal Investigation

Mark J. Mazur, Director, Research, Analysis, and Statistics

David L. Medeck, Business Modernization Executive (W&I)

Steven T. Miller, Commissioner, Tax Exempt and Government Entities

Melvin M. Mitchell, Deputy Associate CIO, Applications Development

Richard J. Morgante, Commissioner, Wage and Investment

Frank Y. Ng, Deputy Commissioner (International), Large and Mid-Size Business

Nina E. Olson, National Taxpayer Advocate

Kathy K. Petronchak, Commissioner, Small Business/Self Employed

Kenneth M. Riccini, Associate CIO, Enterprise Networks

Kenneth Riche, Director, Strategy (CI)

Julie Rushin, Director, Strategy and Finance (W&I)

Cheryl M. Sherwood, Director, Field Operations East (Appeals)

Victor S. O. Song, Director, Laguna Field Operations

Richard A. Spires, Chief Information Officer

Peter J. Stipek, Director, Customer Accounts Services, (W&I)

Dora A. Trevino, acting Chief, EEO and Diversity

Curt Turner, Associate CIO, Management

Bruce B. Unger, Deputy Commissioner (Operations), Large and Mid-Size Business

Christopher Wagner, Deputy Commissioner, Tax Exempt and Government Entities Division

This document does not meet the Department of the Treasury's criteria for significant regulations.

Dated: August 27, 2007.
Linda E. Stiff,
Deputy Commissioner for Operations Support, Internal Revenue Service.

[FR Doc. E7-17449 Filed 8-31-07; 8:45 am]

BILLING CODE 4830-01-P